DEPARTMENT OF HEALTH AND HUMAN SERVICES

Administration for Children and Families

Submission for OMB Review; Comment Request

Title: State Council on Developmental Disabilities Program Performance Report.

OMB No.: 0980-0172

Description: A Developmental Disabilities Council Program Performance Report is required by federal statute. Each State Developmental Disabilities Council must submit an annual report for the preceding fiscal year of activities and accomplishments. Information provided in the Program Performance Report will be used (1) in the preparation of the Annual Report to the President, the Congress, and the National Council on Disabilities and (2) to provide a national perspective on program accomplishments and continuing challenges.

Respondents: State Governments

Instrument | Number of respondents | Number of responses per respondent | Average burden hours per response | Total burden hours
State Council on Developmental Disabilities Program Performance Report | 55 | 1 | 44 | 2,420
Estimated Total Annual Burden Hours |  |  | 44 | 2,420

Additional Information: Copies of the proposed collection may be obtained by writing to the Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: July 11, 2002.
Bob Sargis,
Reports Clearance Officer.

[FR Doc. 02-17943 Filed 7-16-02; 8:45 am]

BILLING CODE 4184-01-M